DEPARTMENT OF HOMELAND SECURITY

Coast Guard

33 CFR Part 100

[Docket No. USCG-2025-0338]

Special Local Regulations; Marine Events Within the Fifth Coast Guard District—Lower Township, NJ

AGENCY: Coast Guard, DHS.

ACTION: Notification of enforcement of regulation.

SUMMARY: The Coast Guard will enforce special local regulations for the Escape the Cape Triathlon from June 8, 2025, to provide for the safety of life on navigable waterways during this event. Our regulation for marine events within the Fifth Coast Guard District identifies the regulated area for this event in Lower Township, NJ. During the enforcement periods, the operator of any vessel in the regulated area must comply with directions from the Patrol Commander or any Official Patrol displaying a Coast Guard ensign.

DATES: The regulations in 33 CFR 100.501 will be enforced for the special local regulation listed in Table 1 to Paragraph (i)(1) of § 100.501 for the Escape the Cape Swim from 7 a.m. through 10 a.m. on June 8, 2025.

FOR FURTHER INFORMATION CONTACT: If you have questions about this notification of enforcement, call or email MST2 Emmanuel E. Melendez, Waterways Management Division, Sector Delaware Bay U.S. Coast Guard; telephone 206-815-6688, option 3, email SecDelBayWWM@uscg.mil.

SUPPLEMENTARY INFORMATION: The Coast Guard will enforce the special local regulation in Table 1 to Paragraph (i)(1) in 33 CFR 100.501, for the regulated area of the Escape the Cape Swim from 7 a.m. to 10 a.m. on June 8, 2025. This action is being taken to provide for the safety of life on navigable waterways during this event. Our regulation for marine events within the Fifth Coast Guard District, § 100.501, specifies the location of the regulated area for the “Escape the Cape Swim” which encompasses portions of the Delaware Bay off Lower Township, NJ. During the enforcement period, as reflected in § 100.501(d)(2), a vessel operator may request permission to enter and transit through a regulated area by contacting the Event PATCOM or official patrol vessel on VHF-FM channel 16. When authorized to transit through the regulated area, the vessel must proceed at the minimum speed necessary to maintain a safe course that minimizes wake near the event area.

In addition to this notification of enforcement in the Federal Register, the Coast Guard plans to provide notification of this enforcement period via the Local Notice to Mariners and Broadcast Notice to Mariners.

Dated: May 14, 2025.
Kate F. Higgins-Bloom,
Captain, U.S. Coast Guard, Captain of the Port, Sector Delaware Bay.

[FR Doc. 2025-09424 Filed 5-23-25; 8:45 am]

BILLING CODE 9110-04-P